NUCLEAR REGULATORY COMMISSION

Advisory Committee on Nuclear Waste; Notice of Meeting

The Advisory Committee on Nuclear Waste (ACNW) will hold its 136th meeting on July 23-25, 2002, at 11545 Rockville Pike, Rockville, Maryland, Room T-2B3.

The entire meeting will be open to public attendance.

The schedule for this meeting is as follows:

Tuesday, July 23, 2002

A. 12:30-12:40 p.m.: Opening Statement—(Open)—The Chairman will open the meeting with brief opening remarks, outline the topics to be discussed, and indicate several items of interest.

B. 12:40-3:15 p.m.: Yucca Mountain Review Plan, Revision 2 (Open)—The Committee will hear presentations from industry and government representatives on the proposed plan. In addition it will discuss the elements of a letter report.

C. 3:30-6 p.m.: Preparation of ACNW Reports (Open)—The Committee will discuss proposed reports on the following topics:

• Long-Term Behavior of Waste Packages

• Igneous Activity Considerations

• High-Level Waste Performance Assessment Sensitivity Studies

Wednesday, July 24, 2002

D. 8:30-8:35 a.m.: Opening Statement (Open)—The ACNW Chairman will make opening remarks regarding the conduct of the meeting.

E. 8:35-9:40 a.m.: Greater-than-Class C (GTCC) (Open)—The Committee will be briefed by a DOE representative on GTCC related activities.

F. 9:40-11 a.m.: Source Control—A State Perspective (Open)—The Committee will be briefed by representatives from Illinois and Texas on the materials and radiation control programs in their states.

G. 11:15-12:30 p.m.: Source Control—NRC Activities (Open)—The Committee will receive an oversight of the technical issues of the NRC program for the control of radioactive materials (e.g., NRC and licensee programs for source control, the General License Program, Orphan Sources, NMED, International activities, etc.)

H. 1:30-2:30 p.m.: Agreement State Programs (Open)—The Director, Office of State and Tribal Programs (OSTP) will discuss the NRC Agreement State Oversight Program (Integrated Materials Performance Evaluation Program).

I. 2:30-3:30 p.m.: Materials/Waste Issues Related to Advanced Reactors (Open)—The Committee will receive an information briefing by NRC staff representatives on materials and waste considerations associated with advanced reactors.

J. 3:45-6 p.m.: Preparation of ACNW Reports (Open)—The Committee will discuss proposed reports on the following topics:

• GTCC/Source Control

• Long-Term Behavior of Waste Packages

• Igneous Activity Considerations

• High-Level Waste Performance Assessment Sensitivity Studies

Thursday, July 25, 2002

K. 8:30-8:35 a.m.: Opening Statement (Open)—The ACNW Chairman will make opening remarks regarding the conduct of the meeting.

L. 8:35-2:45 p.m.: Preparation of ACNW Reports (Open)—The Committee will continue its discussion of proposed ACNW reports noted in Item K.

M. 2:45-3 p.m.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public; electronic recordings will be permitted only during those portions of the meeting that are open to the public; and questions may be asked by members of the Committee, its consultants, staff, and the public. Persons desiring to make oral statements should notify Mr. Howard J. Larson, ACNW (Telephone 301/415-6805), between 8 A.M. and 4 P.M. EDT, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT, at least 10 days before the meeting to ensure the availability of this service. Individuals or organizations requesting this service will be responsible for telephone line charges and for providing the equipment and facilities that they use to establish the videoteleconferencing link. The availability of videoteleconferencing services is not guaranteed.

Dated: July 2, 2002.
Annette Vietti-Cook,
Secretary of the Commission.

[FR Doc. 02-17116 Filed 7-8-02; 8:45 am]

BILLING CODE 7590-01-P